SOCIAL SECURITY ADMINISTRATION

Agency Information Collection Activities: Proposed Request and Comment Request

The Social Security Administration (SSA) publishes a list of information collection packages requiring clearance by the Office of Management and Budget (OMB) in compliance with Public Law (Pub. L.) 104-13, the Paperwork Reduction Act of 1995, effective October 1, 1995. This notice includes revisions and extensions of OMB-approved information collections and a new collection.

SSA is soliciting comments on the accuracy of the agency's burden estimate; the need for the information; its practical utility; ways to enhance its quality, utility, and clarity; and ways to minimize the burden on respondents, including the use of automated collection techniques or other forms of information technology. Mail, email, or fax your comments and recommendations on the information collection(s) to the OMB Desk Officer and the SSA Director for Reports Clearance to the addresses or fax numbers shown below.

(OMB), Office of Management and Budget, Attn: Desk Officer for SSA, Fax: 202-395-6974, E-mail address: OIRA_Submission@omb.eop.gov.

(SSA), Social Security Administration, DCBFM, Attn: Director, Center for Reports Clearance, 1333 Annex Building, 6401 Security Blvd., Baltimore, MD 21235, Fax: 410-965-0454, E-mail address: OPLM.RCO@ssa.gov.

The information collection below is pending at SSA. SSA will submit it to OMB within 60 days from the date of this notice. To be sure we consider your comments, we must receive them no later than October 19, 2009. Individuals can obtain copies of the collection instrument by calling the SSA Director for Reports Clearance at 410-965-0454 or by writing to the email address we list above.

1. State Supplementation Provisions: Agreement; Payments—20 CFR 416.2095-416.2098, 416.2099—0960-0240. Section 1618 of the Social Security Act contains pass-along provisions of the Social Security amendments. These provisions require states that supplement the Federal Supplemental Security Income (SSI) payments to pass along Federal cost-of-living increases to individuals who are eligible for State supplemental payments. If a state fails to keep payments at the required level, it becomes ineligible for Medicaid reimbursement under Title XIX of the Social Security Act. SSA uses the information to determine a state's eligibility for Medicaid reimbursement. Respondents are state agencies administering supplemental programs.

Type of Request: Extension of an OMB-approved information collection.

Number of Respondents: 23.

Frequency of Response: 1.

Average Burden per Response: 60 minutes

Estimated Annual Burden: 23 hours.

2. Vocational Rehabilitation Provider Claim—20 CFR 404.2108(b), 404.2117(c)(1)&(2), 404.2101(b)&(c), 404.2121(a), 416.2208(b), 416.2217(c)(1)&(2), 416.2201(b)&(c), 416.2221(a)—0960-0310. SSA refers certain disability beneficiaries to state Vocational Rehabilitation (VR) agencies. The state VR agencies use the SSA-199 to make claims for reimbursement of the costs they incur when providing VR services for the beneficiaries. SSA uses the information on the SSA-199 to determine whether or not, and how much, to pay the state VR agencies under SSA's VR program. Respondents are state VR agencies who offer vocational and employment services for Social Security and SSI recipients.

Type of Request: Revision of an OMB-approved information collection.

Number of Respondents: 80.

Type of response (as explained below) | Number of respondents | Frequency of response | Total responses | Average burden per response (minutes) | Estimated annual burden hours
a. SSA-199 (404.2108 & 416.2208) | 80 | 160 each/year | 12,800 | 23 | 4,907
b. (404.2117 & 416.2217) | 80 | 1 per year | 80 | 60 | 80
c. (404.2121 & 416.2221) | 80 | 2-3 per year | 200 | 100 | 333
Total |  |  | 13,080 |  | 5,320

Estimated Annual Burden: 5,320 hours.

3. Uniform Administrative Requirements for Grants and Agreements with Institutions of Higher Learning, Hospitals and Other Non-Profit Organizations—20 CFR 435—0960-0616. SSA's regulations at 20 CFR 435 of the Code of Federal Regulations provide SSA's standards for administering grants and agreements it awards to institutions of higher learning, hospitals, and other non-profit and/or commercial organizations. The regulations discuss administrative guidelines and reporting, recordkeeping, and disclosure requirements for recipients of grants and agreements. SSA uses the information to monitor the progress and successful completion of funded projects. Respondents are recipients of grants and agreements with SSA.

Type of Request: Extension of an OMB-approved information collection.

Number of Respondents: 127.

Section No. | Number of respondents | Frequency of response | Average burden per response (hours) | Estimated annual burden (hours)
435.23 Rec-kp | 107 | Monthly (12) | 1 | 1,284
435.25 Rpt | 127 | Biannually (2) | 4 | 1,016
435.51 Rpt | 127 | Quarterly (4) | 12 | 6,096
435.53 Rec-kp | 127 | Annually (1) | 8 | 1,016
Total |  |  |  | 9,412

4. Ticket to Work Program Evaluation Survey (National Beneficiary Survey)—0960-0666. The 1999 Ticket to Work and Work (TTW) Incentives Improvement Act, Public Law 106-170, established the TTW program to create additional access to services for SSA beneficiaries through a new system of public and private Employment Network (EN) providers. The legislation also mandated an evaluation of the program. In February 2003, SSA began a multi-phase evaluation of this program. Although we originally planned to complete the final data collection wave by 2009, we decided to postpone the final evaluation until 2010 because of significant changes in the TTW program in 2008 (such as changes to the way state VR agencies can provide services). In this request, we are seeking clearance for round four of the National Beneficiary Survey and two associated experiments (all three activities will use the same data). The respondents are Social Security beneficiaries and TTW enrollees. As with the previous three phases of this project, a contractor will conduct this study for SSA.

Type of Collection: New information collection (reinstatement with revisions).

Instrument | Annual number of respondents | Number of responses per respondent | Average burden hours per response | Estimated annual burden hours
National Beneficiary Sample | 2,400 | 1 | .750 | 1,800
Ticket Participant Sample | 3,000 | 1 | .917 | 2,751
Grand Total—Burden for NBS
Grand Total for All | 5,400 | 1 |  | 4,551

5. Special Benefits for Certain World War II Veterans—20 CFR 408, Subparts G, H, I, J & L—0960-0683. Title VIII of the Social Security Act, Special Benefits for Certain World War II Veterans (SVB), allows, under certain circumstances, the payment of SVB to qualified veterans who reside outside the United States. The accompanying regulations set out the requirements an individual must meet to establish continuing eligibility to, and insure correct payment amount of, SVB and/or state recognition payments. Additionally, they provide requirements that a state must meet to elect, modify, or terminate a Federal agreement. For those information collection requests (ICR) cleared through SSA forms, the public reporting burden is accounted for in the ICRs for the various forms. A 1-hour placeholder * burden is assigned to those specific reporting requirements contained in the rule. The respondents are individuals who receive Title VIII SVB, and/or states that elect Federal administration of their recognition payments.

Type of Request: Extension of an OMB-approved information collection.

Section No. | Number of respondents | Frequency of response | Average burden per response (minutes) | Estimated annual burden (hours)
§ 408.704-.714 | 1 |  |  | *1
§ 408.802(b) | 5 | 1 | 15 | 1
§ 408.814 | 5 | 1 | 15 | 1
§ 408.820(c) | 5 | 1 | 15 | 1
§ 408.923(b) | 1 |  |  | *1
§ 408.931(b) & § 408.932(d) | 1 |  |  | *1
§ 408.932(c) | 2 | 1 | 15 | 1
§ 408.932(e) | 2 | 1 | 15 | 1
§ 408.941(b) & § 408.942 | 2 | 1 | 15 | 1
§ 408.944(a) | 2 | 1 | 30 | 1
§ 408.1000(a) | 1 |  |  | *1
Total | 27 |  |  | 11

6. Certificate of Incapacity—5 CFR 890.302(d)—0960-0739. Rules governing the Federal Employee Health Benefits (FEHB) plan require that the physician verify disability of Federal employees' children ages 22 and over to retain health benefits under the employees' plans. The physician must verify that the adult child has a disability that meets the following criteria: (1) Pre-dates the child's 22nd birthday; (2) is very serious; and (3) can be expected to last at least one year. Physicians use Form SSA-604, the Certificate of Incapacity, to document and certify the disability of children ages 22 and over whose parents are SSA employees. SSA uses the information to determine adult children's (age 22 and above) eligibility for coverage under a parent's FEHB plan. The respondents are physicians of SSA employees' children ages 22 or over who are seeking to retain health benefits under their parent's FEHB coverage.

Type of Request: New information collection.

Number of Respondents: 50.

Frequency of Response: 1.

Average Burden per Response: 45 minutes.

Estimated Annual Burden: 38 hours.

7. Representative Payment Policies and Administrative Procedures for Imposing Penalties for False or Misleading Statements or Withholding of Information—0960-0740. This information collection request comprises several regulation sections that provide additional safeguards for Social Security beneficiaries whose representative payees receive their payments. Representative payees are required to notify SSA of any event or change in circumstances that would affect receipt of benefits or performance of payee duties. SSA uses the information to determine continued eligibility for benefits, the amount of benefits due and if the payee is suitable to continue serving as payee. The respondents are representative payees who receive and use benefits on behalf of Social Security beneficiaries.

Type of Collection: Extension of an OMB-approved information collection.

Regulation section | Number of respondents | Completion time (hours) | Burden (hours)
404.2035(d) | 550,000 | .083 | 45,650
404.2035(f) | 5,500 | .083 | 457
416.635(d) | 300,000 | .083 | 24,900
416.635(f) | 3,000 | .083 | 249
Total | 858,500 |  | 71,256

II. SSA has submitted the information collections we list below to OMB for clearance. Your comments on the information collections would be most useful if OMB and SSA receive them within 30 days from the date of this publication. To be sure we consider your comments, we must receive them no later than September 18, 2009. You can obtain a copy of the OMB clearance packages by calling the SSA Director for Reports Clearance at 410-965-0454 or by writing to the above email address.

1. Medicare Part B Income-Related Premium—Life-Changing Event Form 0960-0735. Per the Medicare Modernization Act of 2003, selected recipients of Medicare Part B insurance pay an income-related monthly adjustment amount (IRMAA). The Internal Revenue Service uses income tax return data to determine the amount of the IRMAA. SSA uses Form SSA-44 to determine if a recipient qualifies for a reduction in IRMMA. If affected Medicare Part B recipients believe more recent tax data should be used because a life-changing event has occurred that significantly reduces his/her income, they can report these changes to SSA and ask for a new initial determination of his/her IRMAA. The respondents are Medicare Part B recipients who have a modified adjusted gross income over a high-income “threshold.”

Note: This is a correction notice. SSA published this information collection as an extension on June 25, 2009, at 74 FR 30353. Since we are revising the Privacy Act Statement, this is now a revision of an OMB-approved information collection.

Type of Request: Revision of an OMB-approved information collection.

Method of information collection | Number of respondents | Frequency of response | Average burden per response (minutes) | Estimated annual burden (hours)
Personal Interview | 128,000 | 1 | 30 | 64,000
Form | 32,000 | 1 | 45 | 24,000
Totals | 160,000 |  |  | 88,000

Dated: August 14, 2009.
Elizabeth A. Davidson,
Director, Center for Reports Clearance, Social Security Administration.

[FR Doc. E9-19905 Filed 8-18-09; 8:45 am]

BILLING CODE 4191-02-P